DEPARTMENT OF COMMERCE

National Oceanic and Atmospheric Administration

RIN 0648-XH103

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, August 13, 2019, from 9 a.m. to 5 p.m.; Wednesday, August 14, 2019, from 9 a.m. to 5:30 p.m.; and Thursday, August 15, 2019, from 9 a.m. to 1 p.m. For agenda details, see SUPPLEMENTARY INFORMATION.

ADDRESSES: The meeting will be held at the Courtyard Philadelphia Downtown, 21 N Juniper St., Philadelphia, PA 19107; telephone: (215) 496-3200.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Tuesday, August 13, 2019

Research Steering Committee Meeting

Address the November Committee meeting requests; discuss role of the Research Steering Committee; discuss the NEFMC Research Set-Aside (RSA) review; discuss next steps for RSA.

Swearing in of New and Reappointed Council Members and Election of Officers Joint Meeting of the Council and the Scientific and Statistical Committee (SSC) 2020-24 Strategic Plan

Review draft framework.

Council Policies

Review Council policies on public comments, webinars, and Fishery Management Action Teams.

Wednesday, August 14, 2019

Hab in the Mab: Characterizing Black Sea Bass Habitat in the Mid-Atlantic Bight

Presentation on final report.

Offshore Wind Update

Update on recent activities and developments regarding offshore wind in the mid-Atlantic.

Summer Flounder Recreational MSE Project

Presentation on final report.

Council Risk Policy—Framework Meeting 1

Review and approve draft alternatives.

Black Sea Bass Commercial and Recreational Issues

Update on ASMFC discussions regarding state-by-state commercial quota allocations; update on and discussion of recreational management reform initiative; and, discuss next steps.

River Herring & Shad Update and Cap Review

Review and discuss potential action for 2020 River Herring/Shad Cap.

Allocation Review Criteria for All FMPs

Review NMFS Policy Directive for allocation review criteria and adopt allocation review criteria for MAFMC FMPs.

Thursday, August 15, 2019

Business Session

Committee Reports (SSC, Research Steering Committee, Atlantic Coast Fish Habitat Partnership MOU); Executive Director's Report (Initiation of a Monkfish Framework and Review and approve modifications to SOPPs); Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Authority: 16 U.S.C. 1801 et seq.

Dated: July 15, 2019.
Tracey L. Thompson,
Acting Deputy Director, Office of Sustainable Fisheries, National Marine Fisheries Service.

[FR Doc. 2019-15351 Filed 7-18-19; 8:45 am]

BILLING CODE 3510-22-P